DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Fisheries Statistics Survey.

OMB Control Number: 0648-0052.

Form Number(s): NA.

Type of Request: Regular submission (revision of a previously approved information collection).

Number of Respondents: 746,345 total (5,040 for new panel study).

Average Hours per Response: Screening questionnaire, 8 minutes; monthly angler diary, 10 minutes.

Burden Hours: 49,640 total (3,192 for panel study).

Needs and Uses: This request is for a revision of a previously approved information collection.

Marine recreational anglers are surveyed for catch and effort data, fish biology data, and angler socioeconomic characteristics. These data are required to carry out provisions of the Magnuson-Stevens Fishery Conservation and Management Act (MSA), (16 U.S.C. 1801 et seq.) as amended, regarding conservation and management of fishery resources.

The marine recreational fishing catch and effort data are currently collected through a combination of telephone surveys and on-site intercept surveys with recreational anglers. Recent amendments to the MSA require the development of an improved data collection program for recreational fisheries. To meet the requirements of the MSA, NOAA's National Marine Fisheries Service is developing pilot studies to test alternative approaches for surveying recreational anglers. Studies will test the effectiveness of panel surveys for contacting anglers and collecting recreational fishing catch and effort data. The goal of these studies is to develop an efficient means of collecting fishing data while maintaining complete coverage of the angling population, as well as testing assumptions and assessing potential sources of error in ongoing recreational fishing surveys.

Affected Public: Individuals or households.

Frequency: Monthly and on occasion.

Respondent's Obligation: Voluntary.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 27, 2010.
Gwellnar Banks,
Management Analyst, Office of the Chief Information Officer.

[FR Doc. 2010-18849 Filed 7-30-10; 8:45 am]

BILLING CODE 3510-22-P